INTERNATIONAL TRADE COMMISSION

[Investigations Nos. 731-TA-703 and 705 (Review)]

Furfuryl Alcohol From China and Thailand

Determinations

On the basis of the record ¹ developed in the subject five-year reviews, the United States International Trade Commission determines, pursuant to section 751(c) of the Tariff Act of 1930 (19 U.S.C. 1675(c)) (the Act), that revocation of the antidumping duty orders on furfuryl alcohol from China and Thailand would be likely to lead to continuation or recurrence of material injury to an industry in the United States within a reasonably foreseeable time.

¹ The record is defined in sec. 207.2(f) of the Commission's Rules of Practice and Procedure (19 CFR 207.2(f)).

Background

The Commission instituted these reviews on May 1, 2000 (65 FR 25363) and determined on August 3, 2000, that it would conduct full reviews (65 FR 50003, August 16, 2000). Notice of the scheduling of the Commission's reviews and of a public hearing to be held in connection therewith was given by posting copies of the notice in the Office of the Secretary, U.S. International Trade Commission, Washington, DC, and by publishing the notice in the Federal Register on November 6, 2000 (65 FR 66559). The hearing was held in Washington, DC, on March 1, 2001, and all persons who requested the opportunity were permitted to appear in person or by counsel.

The Commission transmitted its determinations in these reviews to the Secretary of Commerce on April 20, 2001. The views of the Commission are contained in USITC Publication 3412 (April 2001), entitled Furfuryl Alcohol From China and Thailand: Investigations Nos. 731-TA-703 and 705 (Review).

By order of the Commission.
Issued: April 20, 2001.
Donna R. Koehnke,
Secretary.

[FR Doc. 01-10298 Filed 4-25-01; 8:45 am]

BILLING CODE 7020-02-P